SMALL BUSINESS ADMINISTRATION

[Declaration of Disaster 3485]

Commonwealth of Virginia

As a result of the President's major disaster declaration on March 27, 2003, I find that Buchanan, Dickenson, Montgomery, Russell, Tazewell and Wise Counties and the Independent Cities of Norton, Roanoke and Salem in the Commonwealth of Virginia constitute a disaster area due to damages caused by a severe winter storm, record snowfall, heavy rain, flooding and mudslides occurring on February 15 through February 28, 2003. Applications for loans for physical damage as a result of this disaster may be filed until the close of business on May 27, 2003 and for economic injury until the close of business on December 29, 2003 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Bland, Craig, Floyd, Giles, Lee, Pulaski, Roanoke, Scott, Smyth and Washington in the Commonwealth of Virginia; Harlan, Letcher and Pike counties in the State of Kentucky; Mercer, McDowell and Mingo counties in the State of West Virginia.

The interest rates are:

| Percent
For Physical Damage:
Homeowners with Credit Available Elsewhere | 5.875
Homeowners without Credit Available Elsewhere | 2.937
Businesses with Credit Available Elsewhere | 6.378
Businesses and Non-Profit Organizations without Credit Available Elsewhere | 3.189
Others (Including Non-Profit Organizations) with Credit Available Elsewhere | 5.500
For Economic Injury:
Businesses and Small Agricultural Cooperatives without Credit Available Elsewhere | 3.189

The number assigned to this disaster for physical damage is 348511. For economic injury the number is 9U5800 for Virginia; 9U5900 for Kentucky; and 9U6000 for West Virginia.

(Catalog of Federal Domestic Assistance Program Nos. 59002 and 59008)
Dated: March 28, 2003.
Cheri C. Wolff,
Acting Associate Administrator for Disaster Assistance.

[FR Doc. 03-8511 Filed 4-7-03; 8:45 am]

BILLING CODE 8025-01-P